DEPARTMENT OF TRANSPORTATION

Federal Highway Administration

[Docket No. FHWA-2012-0033]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by June 11, 2012.

ADDRESSES: You may submit comments identified by DOT Docket ID 2012-0033 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Mark Ferroni, 202-366-9237, Office of Natural Environment, Federal Highway Administration, Department of Transportation, 1200 New Jersey Avenue SE., Washington, DC 20590. Office hours are from 8 a.m. to 5 p.m., Monday through Friday, except Federal holidays.

SUPPLEMENTARY INFORMATION: Title: Possible Inclusion of Specific Pavement Types in the FHWA Traffic Noise Model: Regulatory and Procedural Changes.

Background: The Federal Highway Administration (FHWA) has been actively involved in what today the highway noise industry refers to as “quieter pavements.” In 2003, the FHWA entered into the Quiet Pavement Pilot Program with the Arizona Department of Transportation, co-sponsored the 2004 International Scan on “Quieter Pavement Systems in Europe,” and funded several national workshops, trainings and informational outreach pieces on this topic. In 2005, the FHWA began funding the “Pavement Effects Implementation Study” (PEI) to see how more specific pavement types could be incorporated into the FHWA Traffic Noise Model (FHWA TNM). The incorporation of specific pavement types into TNM would require State Departments of Transportation to use these more specific pavement types in TNM and would result in additional regulatory and procedural changes.

The PEI currently is out of funding but an interim report will soon be released. Before additional time, effort and funding are put into completing the PEI, it is important to conduct a user-need analysis to determine whether our stakeholders, primarily State Departments of Transportation, still want us to complete this research, knowing that it would result in regulatory and procedural changes. The information would cover the topics of being required to use a more specific pavement type(s), being required to maintain the specific pavement type selected, and being required to call a project, a Type I project, if the original pavement is replaced or overlaid with a louder pavement.

Respondents: Approximately 60 entities.

Frequency: Once.

Estimated Average Burden per Response: Approximately 30 minutes.

Estimated Total Annual Burden Hours: Approximately 30 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: April 2, 2012.
Juli Huynh,
Chief, Management Programs and Analysis Division.

[FR Doc. 2012-8847 Filed 4-11-12; 8:45 am]

BILLING CODE 4910-22-P